DEPARTMENT OF TRANSPORTATION

National Highway Traffic Safety Administration

[Docket No. NHTSA-2007-0042; Notice 2]

General Motors Corporation, Grant of Petition for Decision of Inconsequential Noncompliance

General Motors Corporation (GM) has determined that certain model year 2005, 2006 and 2007 Cadillac STS passenger cars equipped with sunroofs do not fully comply with paragraph S4(e) of 49 CFR 571.118, Federal Motor Vehicle Safety Standard (FMVSS) No. 118, Power-Operated Window, Partition, and Roof Panel Systems. On October 3, 2007, GM filed an appropriate report pursuant to 49 CFR part 573, Defect and Noncompliance Responsibility and Reports identifying approximately 60,042 model year 2005, 2006 and 2007 Cadillac STS passenger cars that do not comply with the paragraph of FMVSS No. 118 cited above.

Pursuant to 49 U.S.C. 30118(d) and 30120(h) and the rule implementing those provisions at 49 CFR Part 556, GM has petitioned for an exemption from the notification and remedy requirements of 49 U.S.C. Chapter 301 on the basis that this noncompliance is inconsequential to motor vehicle safety. Notice of receipt of the petition was published, with a 30-day public comment period, on December 10, 2007 in the Federal Register (72 FR 69727). No comments were received. To view the petition and all supporting documents log onto the Federal Docket Management System (FDMS) Web site at: http://www.regulations.gov/. Then follow the online search instructions to locate docket number “NHTSA-2007-0042.”

For further information on this decision, contact Mr. Stuart Seigel, Office of Vehicle Safety Compliance, the National Highway Traffic Safety Administration (NHTSA), telephone (202) 366-5287, facsimile (202) 493-0073.

GM certified these vehicles to paragraph S4(e) of 49 CFR 571.118, which requires in pertinent part:

S4. Operating requirements. * * * power operated window, partition, or roof panel systems may be closed only in the following circumstances: * * *

(e) During the interval between the time the locking device which controls the activation of the vehicle's engine is turned off and the opening of either of a two-door vehicle's doors or, in the case of a vehicle with more than two doors, the opening of either of its front doors;

GM explains that for 60 seconds after the vehicles are started, if the engine is turned off and a front door is opened, the sunroof module software allows the sunroof to be closed if someone in the vehicle activates the control switch. If more than 60 seconds elapses from the starting of the vehicle, this condition will not occur.

GM stated that it is not aware of any incidents or injury related to the subject condition.

GM included an analysis of the risk associated with the subject condition and a detailed explanation of the reasons why it believes the noncompliance to be inconsequential to motor vehicle safety.

In summary, GM states that for all of the subject vehicles:

• The subject condition affects only the sunroof, not the power windows.

• The subject condition requires multiple actions that must occur within a 60 second time period. First, the following sequence of actions must occur: driver starts engine, driver turns off engine, and driver or front passenger opens a front door. After this sequence of actions and still within the 60 second time frame, occupants must take additional actions: Push the sunroof close switch and position an occupant to create the risk of sunroof entrapment. All of these actions must occur within one 60 second time frame.

• If the sunroof switch is pushed steadily and then released, the sunroof promptly stops moving.

• The sunroof incorporates an auto-reverse system. This system will activate whenever the sunroof is closing in the express close mode. Therefore, sunroof entrapment requires the completion of the initial sequence of engine start/engine stop/front door open actions, and also requires an occupant to press and hold the sunroof closure switch and position an occupant within the sunroof—all within the 60 second window and in such a manner that the auto-reverse is not effective in preventing sunroof entrapment.

• The Agency has granted similar petitions in the past.

• GM is not aware of any injures or incidents related to the subject condition.

GM states that it believes that because the noncompliance is inconsequential to motor vehicle safety that no further corrective action is warranted. GM has also informed NHTSA that it has corrected the problem that caused these errors so that they will not be repeated in future production.

NHTSA Decision

The following explains our rationale.

The purpose of paragraph S4 of FMVSS No. 118 is to minimize the likelihood of death or injury to occupants from accidental operation of power windows, partitions, and roof panels. We believe that this noncompliance is inconsequential to motor vehicle safety for a number of reasons. It is very unlikely that the entire sequence of events—starting the engine, turning the engine off, opening a front door, a person becoming positioned in the sunroof opening, and pushing the sunroof close button—will occur in less than 60 seconds. We also believe that the risk exposure time is likely further reduced as the sunroof, normally closed at the time of engine start, would have to first be opened then closed, with the opening time subtracted from the 60 second interval.

The noncompliant situation does not involve power windows, where entrapment is rare but a realistic possibility. Power window openings are physically more accessible to occupants than the sunroof opening and thus present a higher risk of entrapment to persons in the vehicle, especially unattended occupants (normally children).

The subject vehicle sunroof can be closed either by continuous actuation of the sunroof switch, or by a momentary touch and release of the same switch which initiates an express-close mode. In the first mode, the sunroof ceases movement upon release of the switch. This allows immediate operator sunroof closure control minimizing the entrapment risk. During the express-close mode, the vehicle incorporates an auto-reverse feature that is designed to reverse sunroof motion before it can exert a force of 100N (22.5lbf.) or more on a foreign object or person. We believe this added feature will further minimize the risk of entrapment to an occupant (normally a child).

Lastly, GM indicates that it is not aware of any injuries, owner complaints or field reports related to this noncompliance.

Based on the above, NHTSA has decided that GM has met its burden of persuasion that the sunroof noncompliance described is inconsequential to motor vehicle safety. Accordingly, GM's petition is granted and the petitioner is exempted from the obligation of providing notification of, and a remedy for, the noncompliances under 49 U.S.C. 30118 and 30120.

Authority: 49 U.S.C. 30118, 30120; delegations of authority at 49 CFR 1.50 and 501.8.

Issued on: April 18, 2008.
Daniel C. Smith,
Associate Administrator for Enforcement.

[FR Doc. E8-8989 Filed 4-24-08; 8:45 am]

BILLING CODE 4910-59-P